DEPARTMENT OF COMMERCE

National Oceanic and Atmospheric Administration

[I.D. 062102C]

Marine Mammals; File No. 1007-1629

AGENCY: National Marine Fisheries Service (NMFS), National Oceanic and Atmospheric Administration (NOAA), Commerce.

ACTION: Receipt of application for amendment.

SUMMARY: Notice is hereby given that Leszek Karczmarski, Ph.D., Marine Mammal Research Program, Texas A&M University, 4700 Avenue U, Building 303, Galveston, Texas 77551, has requested an amendment to scientific research Permit No. 1007-1629-00.

DATES: Written or telefaxed comments must be received on or before July 29, 2002.

ADDRESSES: The amendment request and related documents are available for review upon written request or by appointment in the following office(s):

Chief, Permits, Conservation and Education Division, Office of Protected Resources, NMFS, 1315 East-West Highway, Room 13705, Silver Spring, MD 20910; phone (301)713-2289; fax (301)713-0376; and

Protected Species Coordinator, Pacific Area Office, NMFS, 1601 Kapiolani Blvd., Room 1110, Honolulu, HI 96814-4700; phone (808)973-2935; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Jill Lewandowski or Trevor Spradlin, (301)713-2289.

SUPPLEMENTARY INFORMATION: The subject amendment to Permit No. 1007-1629-00, issued on August 13, 2001 (66 FR 42523), is requested under the authority of the Marine Mammal Protection Act of 1972, as amended (16 U.S.C. 1361 et seq.), and the Regulations Governing the Taking and Importing of Marine Mammals (50 CFR part 216).

Permit No. 1007-1629-00 authorizes the take of 1,400 individual Hawaiian spinner dolphins (Stenella longirostris) annually by behavioral observation and photo-identification, 400 individuals annually through genetic swabbing, and an unlimited number of individuals by close approach incidental to research activities. The purpose of the research is to compare population structure, genetic flow and social behavior between groups of Hawaiian spinner dolphins in Kure Atoll, Midway Atoll and Pearl & Hermes Reef.

The current request is to amend Permit No. 1007-1629-00 to: (1) expand the geographic area of study to include both the Hawaiian northwestern and main islands; (2) increase the take numbers, based on this expanded geographic area, to 5,000 individuals annually through behavioral observation and photo-identification and 600 individuals annually through the collection of genetic samples; and (3) authorize the use of biopsy sampling through pole-spearing in addition to swabbing.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 21, 2002.
Trevor R. Spradlin,
Acting Chief, Permits, Conservation and Education Division, Office of Protected Resources, National Marine Fisheries Service.

[FR Doc. 02-16383 Filed 6-27-02; 8:45 am]

BILLING CODE 3510-22-S